DEPARTMENT OF LABOR

Advisory Committee on Increasing Competitive Integrated Employment for Individuals With Disabilities

AGENY: Office of Disability Employment Policy, U.S. Department of Labor.

ACTION: Notice; Correction.

SUMMARY: The U.S. Department of Labor, Office of Disability Employment Policy published a document in the Federal Register of September 12, 2014, inviting interested parties to submit nominations for individuals to serve on the Advisory Committee on Increasing Competitive Integrated Employment for Individuals with Disabilities. The document failed to provide the email address to submit nominations under the heading, “ADDRESSES, Electronically, in column 3 on page 54746. However, the email address, IntegratedCompetitiveEmployment@dol.gov, was provided in column 2 on page 54746.

FOR FURTHER INFORMATION CONTACT: Christopher Button, 202-693-7880

Correction:

In the Federal Register of September 12, 2014, in FR Doc. 2014-21834, on page 54746, under the heading, ADDRESSES, Electronically, in column 3, remove the words, “INSERT EMAIL ADDRESS FOR COMMITTEE,” and replace with “IntegratedCompetitiveEmployment@dol.gov.”

Dated: September 18, 2014.
Jennifer Sheehy,
Deputy Assistant Secretary, Office of Disability Employment Policy.

[FR Doc. 2014-22774 Filed 9-24-14; 8:45 am]

BILLING CODE 4510-23-P